DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of the CMHS/CSAT Collaborative Program on Homeless Families: Women with Psychiatric, Substance Use, Or Co-Occurring Disorders and Their Dependent Children, Phase II—(OMB No. 0930-0223, Revision)—SAMHSA's Center for Mental Health Services and Center for Substance Abuse Treatment, through a set of cooperative agreements, are conducting a longitudinal, multi-site evaluation study assessing mental health, substance abuse, and trauma interventions received by homeless mothers with psychiatric, substance use, or co-occurring disorders and their dependent children. The study will advance knowledge on appropriate and effective approaches to improving families' residential stability, overall functioning, and decreased risk for violence.

SAMHSA currently has OMB approval for data collection from approximately 1,600 participants recruited from eight sites. At each site, a documented treatment intervention is tested in comparison to an alternative treatment condition. Participants are interviewed at baseline (within two weeks of entering a program) as well as three additional times (3 months after program entry, 9 months after program entry, and 15 months after program entry). Trained interviewers administer the interviews to participating mothers. Information on the children is obtained from the mother.

Key outcomes for the mothers are increased residential stability, decreased substance use, decreased psychological distress, improved mental health functioning, increased trauma recovery, improved health, improved functioning as a parent, and decreased personal violence. Outcomes for the children are reduced emotional/behavioral problems and improved school attendance.

A coordinated set of interviews assessing the key ingredients of each program will supplement the participant data collection during the baseline timeframe. The purpose of the program ingredients interviews, administered in a one-time case study protocol format, is to systematically describe each treatment and comparison intervention with the same set of variables at comparable points in treatment. This case study protocol will examine the intervention and comparison program models, staffing, structure, goals, and services, and will include vignettes describing actual families referred to the programs. In-person interviews of program directors, program line staff, and consumers will be administered in either focus group format or through one-on-one sessions. The case study protocol will be geared towards obtaining a standard set of information from each site. If some of these data are available from other sources or does not apply at a particular site, the protocol will be shortened. The estimated response burden is as follows:

Instrument | Number of respondents | Responses per respondent | Burden response (hrs) | Total burden hours
Currently—Approved Client Instrument (3-yr. annual average) | 2,280 |  |  | 3,032
Program Director | 35 | 1 | 1.0 | 35
Focus Group: Line Staff | 140 | 1 | 1.0 | 140
Interview: Line Staff | 140 | 1 | 1.0 | 140
Focus Group: Consumers | 350 | 1 | 1.5 | 525
Program Ingredients Sub-total | 2,945 |  |  | 3,872
Total |  |  |  |

Send comments to Nancy Pearce, SAMHSA Reports Clearance Officer, Room 16-105, Parklawn Building, 5600 Fishers Lane, Rockville, MD 20857. Written comments should be received within 60 days of this notice.

Dated: January 13, 2003.
Richard Kopanda,
Executive Officer, Substance Abuse and Mental Health Services Administration.

[FR Doc. 03-1063 Filed 1-16-03; 8:45 am]

BILLING CODE 4162-20-P